ENVIRONMENTAL PROTECTION AGENCY

[FRL-6707-4]

Agency Information Collection Activities: Proposed Collection; Comment Request; Implementation of the Oil Pollution Act Facility Response Plan Requirements

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Implementation of the Oil Pollution Act Facility Response Plan Requirements, EPA ICR No. 1630.03, OMB Control No. 2050-0135, expiring August 22, 2000. Before submitting the ICR to OMB for review and approval, EPA is soliciting comments on specific aspects of the proposed information collection.

DATES: Comments must be submitted on or before July 31, 2000.

ADDRESSES: Materials relevant to this ICR may be inspected by visiting the Public (Superfund) Docket, located at 1235 Jefferson Davis Highway (ground floor), Arlington, Virginia 22202. The docket number for this notice is SPCC-12. The telephone number for the Public Docket is (703) 603-9232. A reasonable fee may be charged for copying docket material. Comments on specific aspects of the proposed information collection notice should be addressed to the Public Docket. The mailing address is: Superfund Docket, U.S. EPA, Ariel Rios Building, 1200 Pennsylvania Avenue NW., Washington, DC 20460.

FOR FURTHER INFORMATION CONTACT: Barbara Davis, (703) 603-8823. Facsimile number: (703) 603-9116. Electronic address: davis.barbara@epa.gov. Note that questions, but not comments, will be accepted electronically. As noted above, comments should be sent to the Public Docket.

SUPPLEMENTARY INFORMATION:

Affected Entities

The owner or operator of a facility that is required to have a spill prevention control and countermeasure (SPCC) plan under the Oil Pollution Prevention regulation (40 CFR part 112) and that could cause “substantial harm” to the environment must prepare and submit to EPA a facility response plan. The criteria for a “substantial harm” facility include oil transfers over water and a total storage capacity over 42,000 gallons; or total oil storage capacity over one million gallons and insufficient secondary containment, proximity to sensitive environments, proximity to drinking water supplies, or recent large spills; or other factors considered by the Regional Administrator. (See 40 CFR 112.20(b)(1) and (f) for further information about the criteria for “substantial harm.”)

The specific private industry sectors subject to this action include, but are not limited to: (1) Petroleum Bulk Stations and Terminals (NAICS 42271); (2) Electric Power Generation, Transmission, and Distribution (NAICS 2211); (3) Gasoline Stations/Automotive Rental and Leasing (NAICS 4471/5321); (4) Heating Oil Dealers (NAICS 454311); (5) Transportation, Pipelines, and Marinas (NAICS 482-486/488112-48819/4883/48849/492/71393); (6) Grain and Oilseed Milling (NAICS 3112); (7) Manufacturing (NAICS 31-33); (8) Warehousing and Storage (NAICS 493); (9) Crude Petroleum and Natural Gas Extraction (211111); (10) Mining and Heavy Construction (NAICS 2121/2123/213114/213116/234); (11) Schools (NAICS 6111-6113); (12) Hospitals (622-623); (13) Crop and Animal Production (NAICS 111-112); and (14) Other Commercial Facilities (miscellaneous).

Title

Implementation of the Oil Pollution Act Facility Response Plan Requirements, OMB Control Number: 2050-0135. EPA Control Number: 1630.03. Expiration Date: August 22, 2000.

Abstract

The authority for EPA's facility response plan requirements is derived from section 311 of the Clean Water Act, as amended by the Oil Pollution Act of 1990. EPA's regulation is codified at 40 CFR 112.20. Facility response plans enhance EPA's ability to protect navigable waters and sensitive environments from oil discharges, help ensure that human health and safety are protected in the vicinity of the facility, and reduce the cost of spills to the regulated community and society. EPA is working to finalize proposed revisions to the rule to differentiate between animal fats and vegetable oils and other oils (64 FR 17227-17267, April 8, 1999).

Response Plan Certification

Under section 112.20(e), the owner or operator of a facility that does not meet the “substantial harm” criteria in section 112.20(f)(1) must complete and maintain at the facility the certification form contained in Appendix C to part 112.

Response Plan Development

Under section 112.20(a) or (b), the owner or operator of a facility that meets the “substantial harm” criteria in section 112.20(f)(1) must prepare and submit to the EPA Regional Administrator a facility response plan (FRP) following section 112.20(h). Such a facility may be a newly constructed facility or may be an existing facility that meets paragraph (f)(1) as a result of a planned change (paragraph (a)(2)(iii)) or an unplanned change (paragraph (a)(2)(iv)) in facility characteristics. Under paragraph (c), the owner or operator may be required to amend the FRP.

Response Plan Maintenance

Under section 112.20(g), the owner or operator must periodically review the FRP to ensure consistency with the National Oil and Hazardous Substances Pollution Contingency Plan and Area Contingency Plans. Under section 112.20(d), the facility owner or operator must revise and resubmit revised portions of the FRP after material changes at the facility. FRP changes that do not result in a material change in response capabilities shall be provided to the Regional Administrator as they occur. Periodic drills and exercises are required to test the effectiveness of the FRP.

Recordkeeping

Under section 112.20(e), an owner or operator who determines that the requirements do not apply must certify and retain a record of this determination. An owner or operator who is subject to the requirements must keep the FRP at the facility (section 112.20(a)), keep updates to the FRP (section 112.20(d)(1) and (2)), and log activities such as discharge prevention meetings, response training, and drills and exercises (section 112.20(h)(8)(iv)).

Purpose of Data Collection

A facility-specific response plan will help an owner or operator identify the necessary resources to respond to an oil spill in a timely manner. If implemented effectively, the FRP will reduce the impact and severity of oil spills and may prevent spills because of the identification of risks at the facility. Although the owner or operator is the primary data user, EPA also uses the data in certain situations to ensure that facilities comply with the regulation and to help allocate response resources. State and local governments may use the data, which are not generally available elsewhere and can greatly assist local emergency preparedness planning efforts.

EPA reviews submitted FRPs and must approve FRPs for those facilities whose discharges may cause “significant and substantial harm” to the environment in order to ensure that facilities believed to pose the highest risk have planned for adequate resources and procedures to respond to a spill. (See 40 CFR 112.20(f)(3) for further information about the criteria for “significant and substantial harm.”)

Burden Statement

Burden means the total time, effort, or financial resources expended by persons to generate, maintain, retain, or disclose or provide the information to or for a Federal agency. This includes the time needed to review instructions; develop, acquire, install, and utilize technology and systems to collect, validate, and verify information, process and maintain information, and disclose and provide information; adjust methods to comply with any new requirements and instructions; train personnel to be able to respond to a collection of information; search data sources; complete and review the collection of information; and transmit or otherwise disclose the information.

This notice provides the Agency's estimated burden to facilities to perform the required actions. The burden to regulated facilities is estimated in terms of the labor cost and time (hours) spent by facility personnel to review the rule, determine if plan preparation is required, and, if necessary, prepare and maintain FRPs. The Agency developed the burden hour estimates for facilities based on consultations with engineers familiar with Oil Pollution Prevention compliance and with EPA Regional staff involved directly with the implementation of the program. The burden hours calculated for each action are taken from the current ICR, and EPA anticipates using these burden hour estimates in the ICR renewal. Costs are from the current ICR, and the Agency-calculated labor wage rates are in 1996 dollars. In the supporting statement for the ICR renewal, EPA will update these rates for the different labor categories to reflect current wage rates.

In 1999, EPA submitted an Information Correction Worksheet to OMB to reflect an Agency policy change in how contractor costs are estimated. EPA expects that many facilities will use contractors to complete activities associated with FRP preparation and maintenance. Rather than including these contractor costs as part of operation and maintenance costs as the Agency has done in the past, the worksheet converts these contractor costs to burden hours to reflect this policy change. The approach for estimating contractor costs used in the 1999 worksheet will also be used in the ICR renewal.

Currently, approximately 5,500 existing facilities are assumed to be regulated under the FRP requirements. The owner or operator of each new facility that is regulated under SPCC requirements in 40 CFR part 112 must read the FRP provisions in section 112.20 to determine whether or not the facility fits the criteria for “substantial harm.” EPA expects 4,355 new SPCC-regulated facilities to make this determination annually. Of those facilities, approximately 65 of them will fit the criteria for “substantial harm” and be required to submit an FRP. These estimates for existing and new facilities were made for the final year of the current ICR, August 1999 to August 2000. Based on assumptions in the current ICR, a one percent annual growth in the number of SPCC-regulated facilities and a 1.5 percent annual growth in the number of FRP-regulated facilities are expected.

In the current ICR and in the ICR renewal, facilities are categorized according to size and type of facility operations. EPA's small, medium, and large size categories are based on the volume of oil storage capacity at each facility. Facilities fall into three additional categories based on how oil is used at the facility: consumption of oil as a raw material or end-use product (storage/consumption); marketing and distribution of oil as a wholesale or retail good (storage/distribution); or pumping oil from the ground as part of exploration or production activities (production).

An estimate of the number of existing FRP-regulated facilities in 2000 is shown in Exhibit 1. Exhibit 2 shows the number of new facilities expected to complete an FRP each year.

Exhibit 1.—Number of Existing Facilities Maintaining FRPS in 2000
Model facility category | Facility size: Small | Facility size: Medium | Facility size: Large | Total
Storage/Consumption | 0 | 160 | 1,973 | 2,133
Storage/Distribution | 0 | 565 | 2,617 | 3,182
Production | 0 | 215 |  | 215
Total | 0 | 940 | 4,590 | 5,530

Exhibit 2.—Estimated Annual Number of New Facilities
Model facility category | Facility type: Small | Facility type: Medium | Facility type: Large | Total
Storage/Consumption | 0 | 2 | 23 | 25
Storage/Distribution | 0 | 7 | 31 | 38
Production | 0 | 2 |  | 2
Total | 0 | 11 | 54 | 65

Unit Burden Hour and Cost Estimates

In calculating the burden on all facilities subject to the FRP requirements, EPA uses a model-facility approach to characterize the diverse nature of regulated facilities. Facilities are categorized according to size and type of facility operations, based on the methodology used in the current ICR. The facility cost estimates for each category of activities, based on the Employment Cost Index (ECI) in terms of 1996 dollars, are: $58.61 for management, $40.17 for technical, $18.32 for clerical, $33.33 for foreman, and $22.22 for labor. In the supporting document for the current ICR, the Agency recognized that these wage rates may underestimate the actual wages received by some facility personnel but overestimate the actual wage rate received by other facility personnel. These costs will be updated in the supporting statement for the ICR renewal.

Exhibit 3 provides EPA's estimate of the per-facility (“unit”) burden hours and costs for personnel to read the regulation, make a determination of whether the FRP requirements apply to the facility, and complete a certification form as necessary. Most regulated facilities already have made this one-time determination.

Exhibit 3.—Unit Burden Hours and Costs to Read Rule, Make Determination, and Complete Certification
Type of facility | Burden hours: Management ($58.61) | Burden hours: Technical ($40.17) | Burden hours: Clerical ($18.32) | Burden hours: Total unit burden | Cost: Capital | Cost: O&M | Cost: Total unit cost
Small | 0.25 | 0 | 0 | 0.25 | 0 | 0 | $15
Medium | 1 | 0 | 0.5 | 1.5 | 0 | 0 | 68
Large | 2 | 4 | 0.5 | 6.5 | 0 | 0 | 287

Exhibits 4 and 5 provide EPA's estimate of the unit burden hours and costs required to become familiar with the rule, and prepare an FRP, respectively. The number of small facilities expected to be required to prepare a facility response plan is assumed to be negligible. Initial preparation of an FRP is a one-time event for the owner or operator of a facility. The burden and cost described in Exhibits 4 and 5 would apply to facilities who have not previously submitted FRPs because they are new or recently identified as being “substantial harm” facilities.

Exhibit 4.—Estimated First-Year Unit Burden Hours and Costs for Facilities Required To Prepare Facility Response Plans: Rule Familiarization
Type of Facility | Burden hours: Managerial ($58.61) | Burden hours: Technical ($40.17) | Burden hours: Clerical ($18.32) | Burden hours: Foreman ($33.33) | Burden hours: Labor ($22.22) | Burden hours: Total unit burden | Cost: Capital | Cost: O&M | Cost: Total unit cost
Storage/Consumption:
Small | 0 | 0 | 0 | 0 | 0 | 0 | 0 | 0 | 0
Medium | 3 | 6 | 1 | 0 | 0 | 10 | 0 | 0 | $ 435
Large | 4 | 8 | 1 | 0 | 0 | 13 | 0 | 0 | 574
Storage/Distribution:
Small | 0 | 0 | 0 | 0 | 0 | 0 | 0 | 0 | 0
Medium | 6 | 3 | 1 | 0 | 0 | 10 | 0 | 0 | 490
Large | 4 | 8 | 1 | 0 | 0 | 13 | 0 | 0 | 574
Production:
Small | 0 | 0 | 0 | 0 | 0 | 0 | 0 | 0 | 0
Medium | 3 | 6 | 1 | 0 | 0 | 10 | 0 | 0 | 435
Large |  |  |  |  |  |  |  |  |

Exhibit 5.—Estimated First-Year Unit Burden Hours and Costs for Facilities Required To Prepare Facility Response Plans: FRP Preparation
Type of facility | Burden hours: Managerial ($58.61) | Burden hours: Technical ($40.17) | Burden hours: Clerical ($18.32) | Burden hours: Foreman ($33.33) | Burden hours: Labor ($22.22) | Burden hours: Total unit burden | Cost: Capital | Cost: O&M | Cost: Total unit cost
Storage/Consumption:
Small | 0 | 0 | 0 | 0 | 0 | 0 | 0 | 0 | 0
Medium | 30.25 | 82.5 | 16.5 | 10 | 16 | 155.25 | 245 | 0 | $6,323
Large | 53.75 | 156.25 | 32.0 | 22 | 64 | 328 | 452 | 0 | 12,620
Storage/Distribution:
Small | 0 | 0 | 0 | 0 | 0 | 0 | 0 | 0 | 0
Medium | 34.75 | 92.5 | 17.5 | 10 | 16 | 170.75 | 250 | 0 | 7,012
Large | 60.75 | 191.25 | 33.0 | 22 | 64 | 371 | 463 | 0 | 14,466
Production:
Small | 0 | 0 | 0 | 0 | 0 | 0 | 0 | 0 | 0
Medium | 23.25 | 73.5 | 12.5 | 10 | 16 | 135.25 | 240 | 0 | 5,473
Large |  |  |  |  |  |  |  |  |

Exhibit 6 provides EPA's estimate of the unit burden hours and costs required to maintain an FRP (i.e., subsequent year burdens following initial year plan preparation burden). FRP maintenance includes activities such as completing records, conducting exercises, and reviewing and updating the FRP as necessary. The regulation does not contain significant recordkeeping requirements, but the estimated burden hours for clerical labor may include some recordkeeping activities. The estimates in Exhibit 6 apply to existing facilities with response plans.

Exhibit 6.—Estimated Unit Burden Hours and Costs for Maintaining Facility Response Plans
Type of facility | Burden hours: Managerial ($58.61) | Burden hours: Technical ($40.17) | Burden hours: Clerical ($18.32) | Burden hours: Foreman ($33.33) | Burden hours: Labor ($22.22) | Burden hours: Total unit burden | Cost: Capital | Cost: O&M | Cost: Total unit cost
Storage/Consumption:
Small | 0 | 0 | 0 | 0 | 0 | 0 | 0 | 0 | 0
Medium | 7.5 | 18.5 | 2 | 10 | 16 | 54 | 0 | 0 | $1,908
Large | 15.0 | 45.0 | 8 | 22 | 64 | 154 | 0 | 0 | 4,989
Storage/Distribution:
Small | 0 | 0 | 0 | 0 | 0 | 0 | 0 | 0 | 0
Medium | 7.5 | 19.5 | 2 | 10 | 16 | 55 | 0 | 0 | 1,948
Large | 17.0 | 58.0 | 10 | 22 | 64 | 171 | 0 | 0 | 5,665
Production:
Small | 0 | 0 | 0 | 0 | 0 | 0 | 0 | 0 | 0
Medium | 7.5 | 18.5 | 2 | 10 | 16 | 54 | 0 | 0 | 1,908
Large |  |  |  |  |  |  |  |  |

Total Annual Expected Facility Burden and Cost

The total annual burden and cost for all existing facilities and all new facilities are shown in Exhibit 7. The current ICR that was submitted to the Office of Management and Budget includes similar burden and cost estimates for the first year of the current ICR, however the annual burdens presented in this notice are calculated based on the third and final year of the current ICR. Approximately 9,900 facilities are required to perform activities in the final year of the current ICR. Of these, over 4,300 new facilities will incur a combined burden of 2,600 hours and $130,000 to become familiar with the rule and determine that they are not required to prepare such plans. Each year approximately 65 new facilities will determine that they are required to prepare such plans and will incur a combined burden of 21,000 hours and $850,000 to do so. Approximately 5,500 existing facilities are required to maintain existing plans and will incur an annual combined burden of about 800,000 hours and $26,000,000 to do so.

Exhibit 7.—Total Estimated Annual Burden Hours and Costs for All New and Existing Facilities
Type of facility | Burden hours: Managerial ($58.61) | Burden hours: Technical ($40.17) | Burden hours: Clerical ($18.32) | Burden hours: Foreman ($33.33) | Burden hours: Labor ($22.22) | Burden hours: Total burden | Cost: Capital | Cost: O&M | Cost: Total
Existing Facilities:
Small | 0 | 0 | 0 | 0 | 0 | 0 | 0 | 0 | 0
Medium | 7,050 | 17,955.0 | 1,880.0 | 9,400 | 15,040 | 51,325 | 0 | 0 | $1,817,325
Large | 74,084 | 240,571.0 | 41,954.0 | 100,980 | 293,760 | 751,349 | 0 | 0 | 24,671,998
New Facilities that are Preparing FRPs:
Small | 0 | 0 | 0 | 0 | 0 | 0 | 0 | 0 | 0
Medium | 404.25 | 1,004.5 | 191.5 | 110 | 176 | 1,886.25 | 2,720 | 0 | 77,860
Large | 3,335.5 | 9,954.5 | 1,813.0 | 1,188 | 3,456 | 19,747 | 24,749 | 0 | 769,771
New Facilities that are not Preparing FRPs:
Small | 868 | 0 | 0 | 0 | 0 | 868 | 0 | 0 | 54,345
Medium | 805 | 0 | 402.5 | 0 | 0 | 1,207.5 | 0 | 0 | 55,360
Large | 156 | 312.0 | 39.0 | 0 | 0 | 507 | 0 | 0 | 22,469

As part of the Agency's efforts to reduce the overall paperwork burden on regulated facilities, EPA solicits comments on how the Agency could best reduce the total paperwork burden hours for this rule while maintaining an effective level of environmental protection. EPA also solicits public comments to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected and (iv) minimize the burden of the collection of information on those who are to respond, including through the use of appropriate technological collection techniques.

No person is required to respond to a collection of information unless it displays a currently valid OMB control number. The OMB control numbers for EPA's regulations are displayed at 40 CFR part 9. Send comments regarding these matters, or any other aspects of the information collection, including suggestions for reducing the burden, to the address listed under ADDRESSES near the top of this document.

Dated: May 23, 2000.
Stephen D. Luftig,
Director, Office of Emergency and Remedial, Response.

[FR Doc. 00-13560 Filed 5-30-00; 8:45 am]

BILLING CODE 6560-50-P